DEPARTMENT OF AGRICULTURE

Federal Crop Insurance Corporation

7 CFR Part 457

RIN 0563-AC03

Common Crop Insurance Regulations; Mint Crop Insurance Provisions

AGENCY: Federal Crop Insurance Corporation, USDA.

ACTION: Correction; Reopening and Extension of comment period.

SUMMARY: The Federal Crop Insurance Corporation (FCIC) is extending the comment period for the proposed rule that was published in the Federal Register on Monday, February 6, 2006 (71 FR 6016-6021). The proposed rule was to amend 7 CFR part 457 to add to a new § 457.169 that provides insurance for mint. The provisions will be used in conjunction with the Common Crop Insurance Policy Basic Provisions, which contain standard terms and conditions common to most crops. This action will correct the electronic mail address, and allow interested persons additional time to prepare and submit comments.

DATES: Written comments and opinions on this proposed rule will be accepted until close of business April 24, 2006, and will be considered when the rule is to be made final.

ADDRESSES: Interested persons are invited to submit written comments to the Director, Product Development Division, Risk Management Agency, United States Department of Agriculture, 6501 Beacon Drive, Stop 0812, Room 421, Kansas City, MO 64133-4676. Comments titled “Mint Crop Insurance Provisions” may be sent via the Internet to DirectorPDD@rma.usda.gov, or the Federal eRulemaking Portal: http://www.regulations.gov/. Follow the online instructions for submitting comments. A copy of each response will be available for public inspection and copying from 7 a.m. to 4:30 p.m., c.s.t., Monday through Friday, except holidays, at the above address.

FOR FURTHER INFORMATION CONTACT: Linda Williams, Risk Management Specialist, Research and Development, Product Development Division, Risk Management Agency, at the Kansas City, MO, address listed above, telephone (816) 926-7730.

SUPPLEMENTARY INFORMATION:

Background

On Monday, February 6, 2006, FCIC published a proposed rule with request for comments in the Federal Register to add to 7 CFR part 457, the Common Crop Insurance Regulations, a new § 457.169 that will provide insurance for mint. The effect of the proposed rule was to convert the mint pilot crop insurance program to a permanent crop insurance program.

Comments were required to be received on or before April 7, 2006. FCIC has been informed the e-mail address listed on the proposed rule and the Federal eRulemaking Portal address were not operational at the time the proposed rule was published. Therefore, FCIC is reopening and extending the comment period until close of business April 24, 2006. This action will allow interested persons who were unable to submit comments additional time to submit comments.

Signed in Washington, DC on March 16, 2006.
Eldon Gould,
Manager, Federal Crop Insurance Corporation.

[FR Doc. 06-2893 Filed 3-23-06; 8:45 am]

BILLING CODE 3410-08-P